DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: National Medal of Technology and Innovation Nomination Application.

Form Number(s): N/A.

Agency Approval Number: 0651-00xx.

Type of Request: New collection.

Burden: 40 hours annually.

Number of Respondents: 1,600 responses per year.

Avg. Hours per Response: 40 hours. The USPTO estimates that it will take the public approximately 40 hours to gather and prepare the necessary information, and submit the information to the USPTO.

Needs and Uses: The pubic uses the National Medal of Technology and Innovation Nomination Application to recognize through nomination an individual's or company's extraordinary leadership and innovation in technological achievement. The application must be accompanied by at least six letters of recommendation or support from individuals who have first-hand knowledge of the cited achievement(s).

Affected Public: Individuals or households; business or other for-profit.

Frequency: On occasion.

Respondent's Obligation: Voluntary.

OMB Desk Officer: Nicholas A. Fraser, e-mail: Nicholas.A.Fraser@omb.eop.gov. Once submitted, the request will be publically available in electronic format through the Information Collection Review page at www.reginfo.gov.

Copies of the above information collection proposal can be obtained by any of the following methods:

• E-mail: Susan.Fawcett@uspto.gov. Include “0651-00xx National Medal of Technology and Innovation Nomination Application copy request” in the subject line of the message.

• Fax: 571-273-0112, marked to the attention of Susan K. Fawcett.

• Mail: Susan K. Fawcett, Records Officer, Office of the Chief Information Officer, Customer Information Services Group, Public Information Services Division, U.S. Patent and Trademark Office, P.O. Box 1450, Alexandria, VA 22313-1450.

Written comments and recommendations for the proposed information collection should be sent on or before January 14, 2009 to Nicholas.A.Fraser@omb.eop.gov or by fax (202) 395-5167, marked to the attention of Nicholas A. Fraser.

Dated: December 8, 2008.
Susan K. Fawcett,
Records Officer, USPTO, Office of the Chief Information Officer, Customer Information Services Group, Public Information Services Division.

[FR Doc. E8-29636 Filed 12-12-08; 8:45 am]

BILLING CODE 3510-16-P